SMALL BUSINESS ADMINISTRATION

Revocation of License of Small Business Investment Company

Pursuant to the authority granted to the United States Small Business Administration by the Final Order of the United States District Court for the Eastern District of Michigan, dated August 9, 2001, the United States Small Business Administration hereby revokes the license of Mutual Investment Company, Inc., a Michigan corporation, to function as a small business investment company under the Small Business Investment Company License No. 05/05-5144 issued to Mutual Investment Company, Inc. on April 21, 1980 and said license is hereby declared null and void as of November 14, 2001.

Dated: November 14, 2001.
United States Small Business Administration.
Harry Haskins,
Associate Administrator for Investment.

[FR Doc. 01-29295 Filed 11-23-01; 8:45 am]

BILLING CODE 8025-01-P